DEPARTMENT OF TRANSPORTATION

National Highway Traffic Safety Administration

[U.S. DOT Docket No. NHTSA-2014-0072]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before August 29, 2014.

ADDRESSES: You may submit comments identified by DOT Docket ID Number NHTSA-2014-0072 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Ms. Liza Lemaster-Sandbank, Contracting Officer's Representative, Occupant Protection Division (NTI-112), Office of Impaired Driving and Occupant Protection, National Highway Traffic Safety Administration, 1200 New Jersey Avenue SE., W44-302, Washington, DC 20590. Ms. Lemaster-Sandbank's phone number is 202-366-4292 and her email address is liza.lemaster@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Implementing a Leadership Framework for Traffic Safety.

Type of Request: New information collection requirement.

OMB Clearance Number: None.

Form Number: NHTSA Forms 1265, 1266, 1267.

Requested Expiration Date of Approval: Three (3) years from date of approval.

Summary of the Collection of Information—The National Highway Traffic Safety Administration (NHTSA) proposes to conduct individual and group interviews with law enforcement officers and leadership who are participating in a leadership framework demonstration to increase law enforcement focus on enforcing seat belt laws. Three law enforcement agencies (a state agency, a municipal agency, and a rural sheriff agency) will participate in the demonstration project, which includes customized technical assistance addressing policies, procedures, data, communication, and other organizational issues. To assess how leadership on seat belt enforcement is communicated and executed throughout the demonstration agencies, NHTSA proposes to conduct a set of individual interviews with line officers and individual or group interviews with leadership within each demonstration agency. While individual interviews will work best with line officers, either group or individual interviews can work effectively with the senior leadership. Flexibility is built in to this approach in order to be mindful of senior leadership's scheduling constraints. Eighteen individuals will be interviewed at each site for a total of 54 individuals. Each individual will be interviewed twice: once during the project implementation and once at the end of the demonstration project. Interviewees will either be self-selected or selected by the demonstration agencies. The purpose of these interviews is to document how a law enforcement agency implements a new leadership approach for seat belt enforcement so that the experiences of the demonstration sites can serve as a resource to other agencies undertaking new seat belt enforcement initiatives.

The interviews will be audio taped using electronic equipment and augmented by handwritten notes taken during the discussions. No videotaping will occur. Any personally identifiable information will be separated from any summary information. Also, all identifying information collected during initial scheduling will be separated from collected information, kept on a secure server in password protected files, and discarded when no longer needed. All information collected during the interviews will be summarized using generic categories such as law enforcement leadership or line officers.

Description of the Need for the Information and Proposed Use of the Information—The National Highway Traffic Safety Administration (NHTSA) was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs. In 2012, there were 21,667 occupants of passenger vehicles who died in motor vehicle traffic crashes. Of the occupants for whom restraint status was known, 52% were unrestrained at the time of the crash. Research shows that wearing a seatbelt or using a child safety seat can greatly reduce the chances of fatal or serious injury as a result of a motor vehicle collision. In fact, when used, seat belts reduce the risk of fatal injury to front-seat passenger occupants by 45% and to light truck occupants by 60%. Moreover, the nationwide daytime seat belt use rate was 87% in 2013, and ranged from 69% to 98% in the states and territories. Clearly there is work to be done to increase seat belt use and reduce unrestrained fatalities due to motor vehicle crashes. It is critical that NHTSA continually explore strategies to increase the use of seat belts among all occupants of motor vehicles.

High visibility enforcement (i.e., highly visible enforcement accompanied by public information supporting the enforcement) has been demonstrated to increase seat belt use. A successful high visibility enforcement program requires a written comprehensive plan with clear, well-defined goals, objectives, and performance measures; understanding of costs; funding; support from key stakeholders within the community; and aggressive law enforcement of laws. All of the above can only be accomplished with strong executive leadership.

A NHTSA-convened work group of law enforcement representatives from states with secondary seat belt laws, but exemplary work in support of occupant protection enforcement, identified strong leadership as the critical component in their successes. Strong leadership within any law enforcement agency can result in various practices and methodologies that spotlight a program's importance and help to make occupant protection, as well as other traffic safety issues, an integral part of the agencies' culture. Regardless of whether the occupant protection program is organized as a specialized unit or broadly integrated within the routine operations of the law enforcement agency, key management and enforcement roles must be clearly defined and assigned to specific individuals by the executive staff.

NHTSA is undertaking a study to implement a leadership model framework within three law enforcement agencies selected by NHTSA, evaluate the process and determine if the traffic safety outcome of interest is realized, specifically the impact on increased seat belt use and reduction in unrestrained fatalities. To accomplish this, NHTSA will provide technical assistance to three law enforcement demonstration communities for the implementation of leadership frameworks in support of safety initiatives, specifically occupant protection. Evaluation measures will involve the independent identification, collection and evaluation of both qualitative and quantitative data that specifically document changes in enforcement activity and its effects on the surrounding communities' behaviors. Overall findings will be provided to other law enforcement agencies to use as a resource for improving occupant protection enforcement programs and efforts.

Description of the Likely Respondents (Including Estimated Number, and Proposed Frequency of Response to the Collection of Information)—Under this proposed effort, a total of 108 interviews of law enforcement personnel will be conducted over two time periods. Eighteen interviews will be conducted in each of the three demonstration sites, once during the demonstration implementation and once at the end of the demonstration project. Ideally, the same respondents will be interviewed at both time periods; however, in the event that an individual leaves the law enforcement agency or is otherwise unavailable for an interview, NHTSA may replace the individual with another suitable interviewee.

NHTSA estimates that each interview will last 60-75 minutes. Interviewees will represent law enforcement leadership as well as line officers. Law enforcement leadership participants will include the top management in the agency (colonel, chief, etc.). Line officers will be recruited through a self-selection process or selected by the demonstration agencies. Responses will be collected via audio-recording and note taking during the interviews.

Throughout the project, the privacy of all participants will be protected. Personally-identifiable information (names, telephone numbers, email addresses, etc.) will be kept separate from the data collected, and will be stored in restricted folders on secure password-protected servers that are only accessible to study staff who have need to access such information. In addition, all data collected from participating officers will be reported in aggregate for each site, and respondent names will not be used in any reports resulting from this project. Rigorous de-identification procedures will be used during summary and feedback stages to ensure no officers will be identified through reconstructive means.

Estimate of the Total Annual Reporting and Record Keeping Burden Resulting from the Collection of Information—NHTSA estimates that the duration of each interview will be seventy-five (75) minutes, or a total of 135 hours for the 54 interview participants (18 interviewees × 3 sites × 2 administrations × 75 minutes). The participants will not incur any reporting cost from the information collection. The participants also will not incur any record keeping burden or record keeping cost from the information collection.

Authority: 44 U.S.C. Section 3506(c)(2)(A)

Dated: June 25, 2014.
Jeff Michael,
Associate Administrator, Research and Program Development.

[FR Doc. 2014-15242 Filed 6-27-14; 8:45 am]

BILLING CODE 4910-59-P